DEPARTMENT OF TRANSPORTATION

Federal Aviation Administration

Notice of Final Action of Waiver With Respect to Land; DeWitt Field, Old Town Municipal Airport, Old Town, ME

AGENCY: Federal Aviation Administration (FAA), Department of Transportation.

ACTION: Notice.

SUMMARY: The FAA is providing notice of a release of Federal obligations for three land parcels at DeWitt Field, Old Town Municipal Airport, Old Town, Maine.

FOR FURTHER INFORMATION CONTACT: Luke Garrison, Director, Federal Aviation Administration New England Region Airports Division, 1200 District Avenue, Burlington, Massachusetts, 01803. Telephone: 781-238-7600.

SUPPLEMENTARY INFORMATION: The City of Old Town, Maine, Airport Sponsor of DeWitt Field, Old Town Municipal Airport has requested a release of all FAA obligations for 5.5 acres of property that were previously owned by the airport. The subject parcels identified as portions of parcel 1 on the Airport's Exhibit A, were sold by the City of Old Town and disposed of without FAA authorization in 2019.

Parcel 1 was conveyed to the airport sponsor by the United States Government on June 5, 1941, through an AP-4 agreement.

This release does not constitute a commitment by the FAA to financially assist in the disposal of the subject airport properties nor a determination of eligibility for grant-in-aid funding from the FAA.

Authority: 49 U.S.C. 47107(h)(2).

Issued in Burlington, Massachusetts on May 8, 2025.
Julie Seltsam-Wilps,
Deputy Director, ANE-600.

[FR Doc. 2025-08367 Filed 5-12-25; 8:45 am]

BILLING CODE 4910-13-P